DEPARTMENT OF ENERGY

Federal Energy Regulatory Commission

Combined Notice of Filings #1

Take notice that the Commission received the following electric corporate filings:

Docket Numbers: EC15-49-000.

Applicants: Source Power & Gas LLC.

Description: Application Under Section 203 of Source Power & Gas LLC.

Filed Date: 12/11/14.

Accession Number: 20141211-5207.

Comments Due: 5 p.m. ET 1/2/15.

Docket Numbers: EC15-50-000.

Applicants: American Transmission Company LLC.

Description: Application of ATCLLC for Authority to Acquire Transmission Facilities Under Section 203 of the FPA.

Filed Date: 12/12/14.

Accession Number: 20141212-5113.

Comments Due: 5 p.m. ET 1/2/15.

Docket Numbers: EC15-51-000.

Applicants: American Transmission Company LLC.

Description: Application of ATCLLC for Authority to Acquire Transmission Facilities Under Section 203 of the FPA.

Filed Date: 12/12/14.

Accession Number: 20141212-5114.

Comments Due: 5 p.m. ET 1/2/15.

Take notice that the Commission received the following electric rate filings:

Docket Numbers: ER15-609-000.

Applicants: Kansas City Power & Light Company.

Description: Notice of Cancellation of Interchange Agreement of Kansas City Power & Light Company.

Filed Date: 12/11/14.

Accession Number: 20141211-5043.

Comments Due: 5 p.m. ET 1/2/15.

Docket Numbers: ER15-617-000.

Applicants: Southwest Power Pool, Inc.

Description: § 205(d) rate filing per 35.13(a)(2)(iii): 1518R8 Arkansas Electric Cooperative Corp NITSA NOA to be effective 12/1/2014.

Filed Date: 12/12/14.

Accession Number: 20141212-5033.

Comments Due: 5 p.m. ET 1/2/15.

Docket Numbers: ER15-618-000.

Applicants: PJM Interconnection, L.L.C., Virginia Electric and Power Company.

Description: § 205(d) rate filing per 35.13(a)(2)(iii): Dominion submits Amended Service Agreement No. 3453 to be effective 12/12/2014.

Filed Date: 12/12/14.

Accession Number: 20141212-5052.

Comments Due: 5 p.m. ET 1/2/15.

Docket Numbers: ER15-619-000.

Applicants: Arizona Public Service Company.

Description: § 205(d) rate filing per 35.13(a)(2)(iii): Service Agreement Nos. 336, 337 and modifications to 51741 and 174 to be effective 12/10/2014.

Filed Date: 12/12/14.

Accession Number: 20141212-5071.

Comments Due: 5 p.m. ET 1/2/15.

Docket Numbers: ER15-620-000.

Applicants: California Independent System Operator Corporation.

Description: § 205(d) rate filing per 35.13(a)(2)(iii): 2014-12-12_NVE_ABAOA_2d_Amendment to be effective 2/25/2015.

Filed Date: 12/12/14.

Accession Number: 20141212-5111.

Comments Due: 5 p.m. ET 1/2/15.

Docket Numbers: ER15-621-000.

Applicants: Pacific Crest Power, LLC.

Description: Initial rate filing per 35.12 MBR Application to be effective 1/30/2015.

Filed Date: 12/12/14.

Accession Number: 20141212-5115.

Comments Due: 5 p.m. ET 1/2/15.

Docket Numbers: ER15-622-000.

Applicants: Ridgetop Energy, LLC.

Description: Initial rate filing per 35.12 MBR Application to be effective 1/30/2015.

Filed Date: 12/12/14.

Accession Number: 20141212-5124.

Comments Due: 5 p.m. ET 1/2/15.

Docket Numbers: ER15-623-000.

Applicants: PJM Interconnection, L.L.C.

Description: § 205(d) rate filing per 35.13(a)(2)(iii): Revisions to the OATT and RAA re Capacity Performance to be effective 4/1/201.

Filed Date: 12/12/14.

Accession Number: 20141212-5126.

Comments Due: 5 p.m. ET 1/12/15.

Take notice that the Commission received the following electric securities filings:

Docket Numbers: ES15-6-000.

Applicants: ITC Midwest LLC.

Description: Application of ITC Midwest LLC under Section 204 of the Federal Power Act.

Filed Date: 12/12/14.

Accession Number: 20141212-5107.

Comments Due: 5 p.m. ET 1/2/15.

Take notice that the Commission received the following electric reliability filings:

Docket Numbers: RR15-4-000.

Applicants: North American Electric Reliability Corp.

Description: Petition of North American Electric Reliability Corporation for Approval of Risk-Based Registration Initiative Rules of Procedure Revisions.

Filed Date: 12/11/14.

Accession Number: 20141211-5214.

Comments Due: 5 p.m. ET 1/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2014.
Nathaniel J. Davis, Sr.,
Deputy Secretary.

[FR Doc. 2014-30204 Filed 12-23-14; 8:45 am]

BILLING CODE 6717-01-P